DEPARTMENT OF ENERGY

Federal Energy Regulatory Commission

Combined Notice of Filings

Take notice that the Commission has received the following Natural Gas Pipeline Rate and Refund Report filings:

Filings Instituting Proceedings

Docket Numbers: RP21-1046-000.

Applicants: Big Sandy Pipeline, LLC, Bobcat Gas Storage, East Tennessee Natural Gas, LLC, Egan Hub Storage, LLC, Garden Banks Gas Pipeline, LLC, Maritimes & Northeast Pipeline, L.L.C., Mississippi Canyon Gas Pipeline, L.L.C., Moss Bluff Hub, LLC, Nautilus Pipeline Company, L.L.C.,NEXUS Gas Transmission, LLC, Sabal Trail Transmission, LLC, Saltville Gas Storage Company L.L.C., Southeast Supply Header, LLC, Steckman Ridge, LP, Texas Eastern Transmission, LP, Algonquin Gas Transmission, LLC.

Description: Compliance filing: Big Sandy Pipeline, LLC submits tariff filing per 154.203: Enbridge (U.S.) Pipelines—Request for Waivers—LINK System Maintenance to be effective N/A.

Filed Date: 8/24/21.

Accession Number: 20210824-5066.

Comment Date: 5 p.m. ET 8/31/21.

Docket Numbers: RP19-1044-003.

Applicants: Cheniere Corpus Christi Pipeline, LP.

Description: Compliance filing: NAESB 3.1 Standard Waiver Update to be effective 9/24/2021.

Filed Date: 8/24/21.

Accession Number: 20210824-5108.

Comment Date: 5 p.m. ET 9/7/21.

Docket Numbers: RP19-1045-003.

Applicants: Cheniere Creole Trail Pipeline, L.P.

Description: Compliance filing: NAESB 3.1 Compliance Update—RP19-1045-002 to be effective 9/24/2021.

Filed Date: 8/24/21.

Accession Number: 20210824-5107.

Comment Date: 5 p.m. ET 9/7/21.

The filings are accessible in the Commission's eLibrary system (https://elibrary.ferc.gov/idmws/search/fercgensearch.asp) by querying the docket number.

Any person desiring to protest in any the above proceedings must file in accordance with Rule 211 of the Commission's Regulations (18 CFR 385.211) on or before 5:00 p.m. Eastern time on the specified comment date.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2021.
Kimberly D. Bose,
Secretary.

[FR Doc. 2021-18732 Filed 8-30-21; 8:45 am]

BILLING CODE 6717-01-P